DEPARTMENT OF THE INTERIOR

Fish and Wildlife Service

50 CFR Part 17

[FF09E21000 FXES11110900000212]

Endangered and Threatened Wildlife and Plants; 90-Day Findings for Five Species

AGENCY: Fish and Wildlife Service, Interior.

ACTION: Notification of petition findings and initiation of status reviews.

SUMMARY: We, the U.S. Fish and Wildlife Service (Service), announce 90-day findings on four petitions to add species to the Lists of Endangered and Threatened Wildlife and Plants and one petition to downlist a species from endangered to threatened under the Endangered Species Act of 1973, as amended (Act). Based on our review, we find that the petitions to list the American bumble bee (Bombus pensylvanicus), Long Valley speckled dace (Rhinichthys osculus ssp.), and Siuslaw hairy-necked tiger beetle (Cicindela hirticollis siuslawensis) present substantial scientific or commercial information indicating that the petitioned actions may be warranted. Therefore, with the publication of this document, we announce that we plan to initiate status reviews of these species to determine whether the petitioned actions are warranted. To ensure that the status reviews are comprehensive, we are requesting scientific and commercial data and other information regarding the species and factors that may affect their status. Based on the status reviews, we will issue 12-month petition findings, which will address whether or not the petitioned actions are warranted, in accordance with the Act. We further find that the petition to list the Tucson shovel-nosed snake (Chionactis annulata klauberi) and the petition to downlist the Florida torreya (Torreya taxifolia) do not present substantial scientific or commercial information indicating the petitioned action may be warranted. Therefore, we are not initiating a status review of those two species.

DATES: These findings were made on September 29, 2021. As we commence our status reviews, we seek any new information concerning the status of, or threats to, the American bumble bee, Long Valley speckled dace, Siuslaw hairy-necked tiger beetle, or their habitats. Any information we receive during the course of our status reviews will be considered.

ADDRESSES:

Supporting documents: Summaries of the basis for the petition findings contained in this document are available on http://www.regulations.gov under the appropriate docket number (see tables under SUPPLEMENTARY INFORMATION). In addition, this supporting information is available by contacting the appropriate person, as specified in FOR FURTHER INFORMATION CONTACT.

Status reviews: If you have new scientific or commercial data or other information concerning the status of, or threats to, the American bumble bee, Long Valley speckled dace, Siuslaw hairy-necked tiger beetle, or their habitats, please provide those data or information by one of the following methods:

(1) Electronically: Go to the Federal eRulemaking Portal: http://www.regulations.gov. In the Search box, enter the appropriate docket number (see Table 1 under SUPPLEMENTARY INFORMATION). Then, click on the “Search” button. After finding the correct document, you may submit information by clicking on “Comment.” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see Table 1 under SUPPLEMENTARY INFORMATION], U.S. Fish and Wildlife Service, MS: PRB/3W, 5275 Leesburg Pike, Falls Church, VA 22041-3803.

We request that you send information only by the methods described above. We will post all information we receive on http://www.regulations.gov. This generally means that we will post any personal information you provide us.

FOR FURTHER INFORMATION CONTACT:

Species common name | Contact person
American bumble bee | Louise Clemency, Field Supervisor, Chicago Ecological Services Field Office, 312-489-0777, louise_clemency@fws.gov.
Florida torreya | Lourdes Mena, Classification and Recovery Division Manager, Florida Ecological Services Field Office, 904-731-3134, lourdes_mena@fws.gov.
Long Valley speckled dace | Marc Jackson, Field Supervisor, Reno Fish and Wildlife Office, 775-861-6337, marc_jackson@fws.gov.
Siuslaw hairy-necked tiger beetle | Michele Zwarties, Field Supervisor, Oregon Fish and Wildlife Office, 503-231-6179, michele_zwartjes@fws.gov.
Tucson shovel-nosed snake | Jeff Humphrey, Field Supervisor, Arizona Ecological Services Office, 602-242-0210, jeff_humphrey@fws.gov.

If you use a telecommunications device for the deaf, please call the Federal Relay Service at 800-877-8339.

SUPPLEMENTARY INFORMATION:

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)).

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

We note that designating critical habitat is not a petitionable action under the Act. Petitions to designate critical habitat (for species without existing critical habitat) are reviewed under the Administrative Procedure Act and are not addressed here (see 50 CFR 424.14(j)). To the maximum extent prudent and determinable, any proposed critical habitat will be addressed concurrently with a proposed rule to list a species, if applicable.

Summaries of Petition Findings

The petition findings contained in this document are listed in the tables below, and the basis for each finding, along with supporting information, is available on http://www.regulations.gov under the appropriate docket number.

Table 1—Status Reviews
Common name | Docket No. | URL to docket on http://www.regulations.gov
American bumble bee | FWS-R3-ES-2021-0063 | https://www.regulations.gov/docket/FWS-R3-ES-2021-0063
Long Valley speckled dace | FWS-R8-ES-2021-0065 | https://www.regulations.gov/docket/FWS-R8-ES-2021-0065
Siuslaw hairy-necked tiger beetle | FWS-R1-ES-2021-0066 | https://www.regulations.gov/docket/FWS-R1-ES-2021-0066

Table 2—Not-Substantial Petition Findings
Common name | Docket No. | URL to Docket on http://www.regulations.gov
Florida torreya | FWS-R4-ES-2021-0064 | https://www.regulations.gov/docket/FWS-R4-ES-2021-0064
Tucson shovel-nosed snake | FWS-R2-ES-2021-0067 | https://www.regulations.gov/docket/FWS-R2-ES-2021-0067

Evaluation of a Petition To List American Bumble Bee

Species and Range

American bumble bee (Bombus pensylvanicus); Alabama, Arizona, Arkansas, California, Colorado, Delaware, Florida, Georgia, Illinois, Indiana, Iowa, Kansas, Kentucky, Louisiana, Maryland, Michigan, Mississippi, Missouri, Montana, Nebraska, Nevada, New Jersey, New Mexico, New York, North Carolina, Ohio, Oklahoma, Oregon, Pennsylvania, South Carolina, South Dakota, Tennessee, Texas, Virginia, West Virginia; Canada (Ontario); and Mexico.

Petition History

On February 1, 2021, we received a petition from the Center for Biological Diversity and the Bombus Pollinators Association of Law Students of Albany Law School, requesting that the American bumble bee be listed as an endangered species and critical habitat be designated for this species under the Act. The petition clearly identified itself as such and included the requisite identification information for the petitioner, required at 50 CFR 424.14(c). This finding addresses the petition.

Finding

We reviewed the petition and sources cited in the petition. We considered the factors under the Act's section 4(a)(1) and assessed the effect that the threats identified within the factors—as may be ameliorated or exacerbated by any existing regulatory mechanisms or conservation efforts—may have on the species now and in the foreseeable future. Based on our review of the petition and sources cited in the petition regarding pathogen spillover (Factor C), we find that the petition presents substantial scientific or commercial information indicating that listing the American bumble bee as an endangered or threatened species may be warranted. The petitioners also present information suggesting the following may be threats to the American bumble bee: Habitat destruction from agricultural intensification, livestock grazing, and pesticide use; loss of genetic diversity; climate change; and competition from nonnative honeybees. We will fully evaluate these potential threats during our status review, pursuant to the Act's requirement to review the best scientific and commercial information available when making our 12-month finding.

The basis for our finding on this petition and other information regarding our review of the petition can be found as an appendix at http://www.regulations.gov under Docket No. FWS-R3-ES-2021-0063 under the Supporting Documents section.

Evaluation of a Petition To Downlist Florida Torreya

Species and Range

Florida torreya (Torreya taxifolia); northern Florida and Georgia.

Petition History

On December 12, 2019, we received a petition dated September 9, 2018, from Connie Barlow, requesting that the Florida torreya be downlisted from endangered to threatened because the species does not meet the definition of an “endangered species” under the Act. The petition clearly identified itself as such and included the requisite identification information for the petitioner, as specified at 50 CFR 424.14(c). This finding addresses the petition.

Finding

Based on our review of the petition and sources cited in the petition, we find that the petition does not present substantial scientific or commercial information indicating the petitioned action may be warranted for the Florida torreya. Based on the Service's 2010 5-year review, the species is considered extremely vulnerable due to its limited range, low population numbers, and rarity of habitat. The primary decline in species abundance is thought to have resulted from fungal pathogens during the 1950s and 1960s, and/or a combination of environmental stress and native pathogens, but studies have yet to provide an explanation.

We found that the petition does not present credible scientific and commercial information to support the claim that the destruction, modification, or curtailment of the Florida torreya's habitat or range have been ameliorated (Factor A). Additionally, the petition does not provide substantial evidence that would lead a reasonable person to believe that the historical range of the Florida torreya is larger than described at the time the species was listed. We acknowledge that the petition provides additional documentation on the effects of disease at localities outside of the Florida torreya's native range (Factor C), including the locations and conditions of many northern outplantings, and provides new information regarding the species' natural history and best propagation practices (Factor E); however, the petition does not present substantial information indicating that the primary threats to the species have been reduced or removed such that the species may be warranted for downlisting to threatened status.

Because the petition does not present substantial information indicating that downlisting the Florida torreya may be warranted, we are not initiating a status review of this species in response to this petition. However, we ask that the public submit to us any new information that becomes available concerning the status of, or threats to, this species or its habitat at any time (see FOR FURTHER INFORMATION CONTACT, above).

The basis for our finding on this petition, and other information regarding our review of the petition, can be found as an appendix at http://www.regulations.gov under Docket No. FWS-R4-ES-2021-0064 under the Supporting Documents section.

Evaluation of a Petition To List Long Valley Speckled Dace

Species and Range

Long Valley speckled dace (Rhinichthys osculus ssp.); historical range: Upper Owens River watershed, Mono County, California; current range: Whitmore Hot Spring, Mono County, California. (Long Valley speckled dace may be extirpated in the wild, and only found in an artificial pond in Inyo County, California, outside of their historical range.)

Petition History

On June 24, 2020, we received a petition, dated June 8, 2020, from the Center for Biological Diversity (CBD), requesting that the Service take several actions regarding three speckled dace entities, including the Long Valley speckled dace (Rhinichthys osculus ssp.). Only the request to list the Long Valley speckled dace as an endangered, separate subspecies of speckled dace (R. osculus) was found to be a valid petition.

The CBD clearly identified their document as a petition and included the requisite identification information for the petitioner, required at 50 CFR 424.14(c). This finding addresses the petition for the Long Valley speckled dace.

Finding

We reviewed the petition, sources cited in the petition, and other readily available information. Based on our review of the petition and readily available information regarding geothermal energy development (Factor A), surface water diversions (Factor A), habitat alteration from recreational activities (Factor A), livestock grazing (Factor A), disease (Factor C), regulatory mechanisms regarding water quality and groundwater management (Factor D), introduced species (Factor E), and climate change (Factor E), we find that the petition presents substantial scientific or commercial information indicating that listing the Long Valley speckled dace (Rhinichthys osculus ssp.) as an endangered subspecies of speckled dace (R. osculus) may be warranted. We will fully evaluate all potential threats during our status review, pursuant to the Act's requirement to review the best scientific and commercial information available when making our 12-month finding.

The basis for our finding on this petition, and other information regarding our review of the petition, can be found as an appendix at http://www.regulations.gov under Docket No. FWS-R8-ES-2021-0065 under the Supporting Documents section.

Evaluation of a Petition To List Siuslaw Hairy-Necked Tiger Beetle

Species and Range

Siuslaw hairy-necked tiger beetle (Cicindela hirticollis siuslawensis); Coos, Curry, Douglas, and Lane County, Oregon; and Grays Harbor and Pacific County, Washington.

To support the claim that the Siuslaw hairy-necked tiger beetle (Cicindela hirticollis siuslawensis (Graves 1988)) is a valid subspecies and therefore eligible for protection under the Act, the petition described below cites to two sources: the Integrated Taxonomic Information System (ITIS 2020, p. 1) and Pearson et al. (2015, p. 79). ITIS considers Cicindela hirticollis siuslawensis to be a valid subspecies. However, Pearson et al. (2015) calls the validity of the subspecies into question and recommends further study. For this finding, the fact that ITIS (2020) recognizes Cicindela hirticollis siuslawensis as a valid taxon, and to our knowledge no further study has invalidated its taxonomic status as a subspecies, leads us to conclude that there is substantial information that the Siuslaw hairy-necked tiger beetle may be a valid listable entity under the Act. However, we will conduct a complete review of the best available scientific information on taxonomy at the time of our status review, pursuant to the Act's requirements.

Petition History

On November 12, 2020, we received a petition dated November 9, 2020, from the CBD and Xerces Society for Invertebrate Conservation requesting that the Siuslaw hairy-necked tiger beetle (Cicindela hirticollis siuslawensis) be listed as an endangered or threatened species and critical habitat be designated for this species under the Act. The petition clearly identified itself as such and included the requisite identification information for the petitioner, required at 50 CFR 424.14(c). This finding addresses the petition.

Finding

We reviewed the petition, sources cited in the petition, and other readily available information. Based on our review of the petition and readily available information regarding off-highway vehicle (OHV) use (Factor A), breaching and dredge spoil deposition (Factor A), invasive species (Factor A), bulldozing and sand deposition (Factor A), regulatory mechanisms regarding OHV use and controlling recreational use (Factor D), human disturbance (Factor E), sea level rise and flooding (Factor E), and coastal erosion (Factor E), we find that the petition presents substantial scientific or commercial information indicating that listing the Siuslaw hairy-necked tiger beetle as an endangered or threatened species may be warranted. The petitioners also presented information suggesting that habitat destruction or fragmentation as a result of development and inbreeding depression may be threats to the Siuslaw hairy-necked tiger beetle. We will fully evaluate all potential threats during our status review, pursuant to the Act's requirement to review the best available scientific information when making our 12-month finding.

The basis for our finding on this petition, and other information regarding our review of the petition, can be found as an appendix at http://www.regulations.gov under Docket No. FWS-R1-ES-2021-0066 under the Supporting Documents section.

Evaluation of a Petition To List the Tucson Shovel-Nosed Snake

Species and Range

Tucson shovel-nosed snake (Chionactis annulata klauberi).

Historical range—The range of the western shovel-nosed snake (Chionactis occipitalis), which includes the Tucson shovel-nosed snake subspecies, extended from southern Nevada and southern California, across southwestern Arizona and into Mexico. The Tucson shovel-nosed snake has been recognized as a subspecies of the western shovel-nosed snake since 1941, but its range was not defined. Klauber (1951) described locations of the Tucson shovel-nosed snake subspecies in eastern Pima and Pinal Counties, Arizona, from Tucson northwest to Picacho and then north to Florence Junction. These locations were primarily based on morphological color patterns of the subspecies. He also described intergradation (areas where populations of two distinct subspecies are connected that have the characteristics of both) with another western shovel-nosed snake subspecies in Maricopa County and western portions of Pinal and Pima Counties from Casa Grande West to Gila Bend, north to Aguila, and South to Ajo, Arizona.

Current range—In our 2014 species status assessment (SSA) of the Tucson shovel-nosed snake, we determined the current range of the Tucson shovel-nosed snake to encompass 7,783,875 acres (3,150,022 hectares) within Pima, Pinal, Maricopa, Yavapai, Yuma, and La Paz Counties in central and western Arizona (Wood et al. 2014; Service 2014b, p. 14). Because the Tucson shovel-nosed snake exhibits many different color patterns throughout its range, we relied on genetic data to define the subspecies' range (Service 2014b, pp. 13-14).

The petitioner disagrees with our determination of current range in our 2014 SSA and subsequent 12-month finding that listing the species was not warranted (79 FR 56730; September 23, 2014). The petitioner believes that the current range of the Tucson shovel-nosed snake includes western Pima, Pinal, and Maricopa Counties in central Arizona, based on a different interpretation of the taxonomic revision described in Wood et al. (2014, entire) than our interpretation. The petitioner limits the current range of the subspecies to include snakes that share genetic characteristics with C. a. klauberi and also have the same color pattern as the Tucson shovel-nosed snake. The petitioner's definition of the current range relies on color pattern to limit the range of the subspecies, whereas our definition relies solely on the genetics of the subspecies.

The western shovel-nosed snake is a highly variable species with regard to color patterns throughout its range. Although some western shovel-nosed snakes may look like a particular subspecies, genetic analyses commonly indicate a snake is actually a different subspecies than its color pattern suggests. Similar to the western shovel-nosed snake species as a whole, finding snakes that are phenotypically diverse but genetically similar is the norm for several valleys in the Tucson shovel-nosed snake's historical range in Arizona. Therefore, we concluded in our 2014 SSA that the species' current range includes an additional 4,943,728 acres (2,000,655 hectares) that extents westward into La Paz County, Arizona because of their genetic similarity, which expands the range beyond what the petitioners' identify as the current range in their petition. Refer to our 2014 SSA, available at http://www.regulations.gov under Docket No. FWS-R2-ES-2021-0067, for more information on the genetic analysis of this subspecies.

Petition History

On October 20, 2020, we received a petition dated September 24, 2020, from the CBD requesting that the Tucson shovel-nosed snake be listed as an endangered or threatened species and critical habitat be designated for this species under the Act. The petition clearly identified itself as such and included the requisite identification information for the petitioner, required at 50 CFR 424.14(c). This finding addresses the petition.

We previously received a petition from the same petitioner requesting that the Tucson shovel-nosed snake be listed as an endangered or threatened species and critical habitat be designated under the Act on December 14, 2004. We subsequently completed a substantial 90-day finding (73 FR 43905; July 29, 2008) and found listing was warranted but precluded by higher priority actions in a 12-month finding, when the Tucson shovel-nosed snake was added to the list of candidate species (75 FR 16050; March 31, 2010). On September 9, 2011, the Service entered into a settlement agreement where we were required to submit a proposed rule or not warranted 12-month finding for the Tucson shovel-nosed snake by September 30, 2014. Therefore, we completed an SSA in 2014 (Service 2014b) and published a 12-month finding (79 FR 56730; September 23, 2014) that concluded that listing the Tucson shovel-nosed snake as an endangered or threatened species was not warranted, and, therefore, we removed the subspecies from our candidate list. Where the prior review resulted in a final agency action, a petitioned action generally would not be considered to present substantial scientific and commercial information indicating that the action may be warranted unless the petition provides new information not previously considered (see 50 CFR 424.14(h)(iii)), which this petition did not.

Finding

We reviewed the petition, sources cited in the petition, and other readily available information. Based on our review of the petition, sources cited in the petition, and other readily available information, we find that the petition does not provide substantial scientific or commercial information indicating that listing the Tucson shovel-nosed snake as an endangered or threatened species may be warranted. The key difference between the petitioners' conclusions regarding the species' likely status and the conclusions in our 2014 finding relate to the difference in interpretation of the current range of the species, as described above. We stand by our previous determination that genetic analysis is a better scientific method than color patterns for determining which subspecies a shovel-nosed snake belongs to, and the petition did not contain any substantial or new information that indicated otherwise. Additionally, almost all of the information regarding potential threats to the Tucson shovel-nosed snake provided in and cited by the petition were previously considered in our 2014 not warranted finding. Although the petition provides some new information regarding specific impacts from proposed Interstate 11, our previous finding considered the likely additional impacts of future development in this area. Our review of the petition found that any potential impact to the Tucson shovel-nosed snake from proposed Interstate 11 is not likely to significantly affect Tucson shovel-nosed snake individuals.

Because the petition does not present substantial information indicating that listing the Tucson shovel-nosed snake may be warranted, we are not initiating a status review of this subspecies in response to this petition. However, we ask that the public submit to us any new information that becomes available concerning the status of, or threats to, this subspecies or its habitat at any time (see FOR FURTHER INFORMATION CONTACT, above).

The basis for our finding on this petition, and other information regarding our review of the petition, can be found as an appendix at http://www.regulations.gov under Docket No. FWS-R2-ES-2021-0067 under the Supporting Documents section.

Conclusion

On the basis of our evaluation of the information presented in the petitions under sections 4(b)(3)(A) and 4(b)(3)(D)(i) of the Act, we have determined that the petitions summarized above for American bumble bee, Long Valley speckled dace, and Siuslaw hairy-necked tiger beetle present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species. In addition, we have determined that the petitions summarized above for the Florida torreya and Tucson shovel-nosed snake do not present substantial scientific or commercial information indicating that the petitioned action may be warranted. We are, therefore, not initiating a status review of either of these species in response to the petitions.

Authors

The primary authors of this document are staff members of the Ecological Services Program, U.S. Fish and Wildlife Service.

Authority

The authority for these actions is the Endangered Species Act of 1973, as amended (16 U.S.C. 1531 et seq.).

Martha Williams,
Principal Deputy Director, Exercising the Delegated Authority of the Director, U.S. Fish and Wildlife Service.

[FR Doc. 2021-20963 Filed 9-28-21; 8:45 am]

BILLING CODE 4333-15-P